DEPARTMENT OF STATE

[Public Notice 5635]

Bureau of Near Eastern Affairs; Notice of New Information Collection Under Emergency Review: Iran Democracy Program Grants Vetting; Form DS-4100, OMB Control Number 1405-xxxx

AGENCY: Department of State, Bureau of Near Eastern Affairs.

ACTION: Notice of request for Emergency OMB approval.

SUMMARY: The Department of State has submitted the following new information collection request to the Office of Management and Budget (OMB) for review and approval in accordance with the emergency review procedures of the Paperwork Reduction Act of 1995.

Type of Request: Emergency Review.

Originating Office: Bureau of Near Eastern Affairs, Middle East Partnership Initiative.

Title of Information Collection: Iran Democracy Program Grants Vetting.

Frequency: On occasion.

Form Number: DS-4100.

Respondents: Potential Grantees for Iran Democracy Program.

Estimated Number of Respondents: 200.

Average Hours per Response: 1 hour per response.

Total Estimated Burden: 200 hours.

The proposed information collection is published to obtain comments from the public and affected agencies. Emergency review and approval of this collection has been requested from OMB by December 8, 2006. If granted, the emergency approval is only valid for 180 days. Comments should be directed to Katherine Astrich, State Department Desk Officer, Office of Information and Regulatory Affairs, Office of Management and Budget (OMB), Washington, DC 20530, who may be reached on 202-395-4718.

During the first 60 days of this same period a regular review of this information collection is also being undertaken. Comments are encouraged and will be accepted until 60 days from the date that this notice is published in the Federal Register. The agency requests written comments and suggestions from the public and affected agencies concerning the proposed collection of information. Your comments are being solicited to permit the agency to:

• Evaluate whether the proposed collection of information is necessary for the proper performance of the functions of the agency, including whether the information will have practical utility.

• Evaluate the accuracy of the agency's estimate of the burden of the proposed collection, including the validity of the methodology and assumptions used.

• Enhance the quality, utility, and clarity of the information to be collected.

• Minimize the reporting burden on those who are to respond, including through the use of automated collection techniques or other forms of technology.

For Additional Information: Requests for additional information, regarding the collection listed in this notice should be directed to David Denehy, Bureau of Near Eastern Affairs, U.S. Department of State, Washington, DC 20520, who may be reached on 202-647-2519, or via e-mail at DenehyDM@state.gov.

Abstract of Proposed Collection:

A critical component of the Administration's Iran policy is the support for indigenous Iranian voices calling for freedom. President Bush himself has pledged this support and the State Department has made the awarding of grants for this purpose a key component of its Iran policy. As a condition of licensing these activities, the Office of Foreign Assets Control (OFAC) has requested the Department of State to follow certain procedures to effectuate the goals of Sections 481(b), 531(a), 571, 582, and 635(b) of the Foreign Assistance Act of 1961 (as amended); 18 U.S.C. §§ 2339A and 2339B; Executive Order 13224; and Homeland Security Presidential Directive 6. These licensing conditions mandate that the Department conduct a vetting of potential Iran democracy grantees and sub-grantees for counter-terrorism purposes. To conduct this vetting the Department envisions collecting information from grantees and sub-grantees regarding the identity and background of their key employees and Boards of Directors.

Methodology: The State Department (Bureau of Near Eastern Affairs, Bureau of Democracy Human Rights and Labor, and Bureau of Educational and Cultural Affairs) will collect this information via electronic submission.

Dated: December 4, 2006.
David M. Denehy,
Senior Advisor, Bureau of Near Eastern Affairs, Department of State.

[FR Doc. E6-20917 Filed 12-7-06; 8:45 am]

BILLING CODE 4710-31-P